DEPARTMENT OF AGRICULTURE

Forest Service

Southwestern Region, Arizona, Coconino, Yavapai, Navajo, Apache, Gila, Graham, Greenlee Maricopa, and Mohave Counties for the Apache-Sitgreaves, Coconino, Kaibab, Prescott, and Tonto National Forest; Amendment to National Forest Land and Resource Management Plans Regarding Cross-Country Travel by Wheeled Motorized Vehicles Commonly Known as Off Highway Vehicles (OHVs)

AGENCY: Forest Service, USDA.

ACTION: Revised Notice of Intent (RNOI) to prepare an environmental impact statement.

SUMMARY: On March 27, 2001 the Apache-Sitgreaves, Coconino, Kaibab, Prescott, and Tonto National Forests issued a Notice of Intent (NOI) in the Federal Register (pages 17136 to 17137) to prepare an environmental impact statement addressing cross-country travel by motorized wheeled vehicles and how to standardize road and trail signing conventions for OHVs. Extensive public meetings have been held in Arizona to facilitate the scoping process. Hundreds of written and electronic comments were submitted prior to the May 15, 2001 deadline. The national forests did not identify a proposed action alternative in that NOI. Information obtained at these public meetings has helped refine the issues associated with this project. Through public comment and inter-agency coordination the Forest Service has developed a proposed action alternative. Standardization of signing conventions has been dropped from the project because this is an administrative matter that will be resolved through coordination with governmental units. Public input concerning the signing policy will be sought by Arizona forest supervisors.

DATES: Comments in response to this Revised Notice of Intent concerning the scope of the analysis should be received in writing on or before March 15, 2002.

ADDRESSES: Send written comments to USDA Forest Service, Apache-Sitgreaves National Forest, PO Box 640, Springerville, Arizona 85938, ATTN: Land Management Planning.

RESPONSIBLE OFFICIALS: Forest Supervisors of the Apache-Sitgreaves, Coconino, Kaibab, Prescott and Tonto National forests will decide if it is necessary to more restrictively manage cross-country travel by OHVs. These Forest Supervisors are: John C. Bedell, Apache-Sitgreaves National Forest, Forest Supervisor's Office, PO Box 640, Springerville, AZ 85938, James W. Golden, Coconino National Forest, Forest Supervisor's Office, 2323 E Greenlaw Lane, Flagstaff, AZ 86004, Mike King, Prescott National Forest, Forest Supervisor's Office, 344 S. Cortez, Prescott Arizona, 86303, Karl Siderits, Tonto National Forest, Forest Supervisor's Office, 2324 E. McDowell Road, Phoenix, Arizona 85006, Mike Williams, Kaibab National Forest, Forest Supervisor's Office, 800 S. 6th Street, Williams, Arizona 86046.

FOR FURTHER INFORMATION CONTACT: Jim Anderson Land Management Planner, Apache-Sitgreaves National Forest (928) 333-6370.

SUPPLEMENTARY INFORMATION: The five national forests involved in this project currently have different management direction for cross-country use of OHVs. This diversity of approaches has led to confusion by the public as to where they may use OHVs. The growing numbers of OHVs used on national forests has impacted land and resources. Popularity of this use has created conflicts with other forest uses and prompted many individuals and groups to express concerns over this matter.

Current OHV Management Direction
National forest | Cross country travel policy | Special area cross country travel policy
Apache/Sitgreaves | Open except specific closed areas | Closed.
Coconino | Open except Sedona Special Travel Area | Closed.
Kaibab | Open except specific areas | Closed.
Prescott | Closed | OHV areas open.
Tonto | Desert Closed, Forested Ranger Districts open | OHV area open except in-desert areas.

Many types of OHVs are common in Arizona's National Forests. Pickup trucks, motorcycles, and all-terrain vehicles have all become more prevalent and now are beyond the scope considered for their use in forest plans. According to industry experts more than half of all vehicles sold in Arizona are sport utility vehicles (SUVs) or light trucks. Additionally, all-terrain vehicles have increased in sales between 1995 and 1998 an average of 29% per year. Improper use of such vehicles on national forests has been a concern of government agencies, organized environmental and OHV groups and individuals. This concern has accelerated in a pattern similar to the expanded population of OHVs.

Cross-country travel is defined as travel off of or away from open roads or trails. Where cross country travel is permitted under land management plans, these roads and trails are often products of repeated cross country use and not trespass per se. Where cross-country travel is prohibited, trails and roads created by repeated use are not legal additions to a designated transportation system. Agency personnel and the public note new user created trails on many national forests and roads almost every week. National forests in Arizona are experiencing noticeable impacts from improper OHV use.

Communities adjacent to national forests and popular recreation destinations have become focal points for development of a large amount of unapproved roads and trails created by OHV users. These user created trails lack engineering and environmental elements of design. The EIS will contain substantial information on what constitutes an open road or trail.

Even greater concerns occur in environmentally sensitive areas. Specially designated wildlife protection areas are becoming crisscrossed with OHV tracks. Wilderness areas have frequently been impacted by OHV tracks, often immediately adjacent to closure signs. Riparian areas also attract a large number of people and provide key habitat elements to wildlife. OHV tracks and use areas have strongly impacted many of these ecological communities.

The EIS will deal with alternative strategies for cross-country OHV travel. While it was once envisioned that this process would standardize the convention for signing open roads and trails, that has been dropped from the project because that is an administrative matter that is not subject to the documentation in an EIS or other environmental document. Forest supervisors will seek public input on their administrative decision for road signs. This EIS and that administrative process will over lap in time frames and may use common meetings to facilitate public input to both projects.

Off highway vehicles allow many people to enjoy the national forests and contribute significantly to the economy of communities when used properly. OHVs have become very popular because of high quality recreational experiences they provide and the amount of national forest land they can access on them.

Preliminary issues include:

• Law enforcement efficiency.

• Ability to access resources by persons of diverse cultures and abilities. An interdisciplinary team has been appointed by the Responsibilities Officials. They have examined documents of other agencies and Forest Service Regions to develop preliminary alternatives for analysis in an environmental impact statement. Comments on these preliminary alternatives during the initial scoping helped the team analyze reasonableness of the alternatives and the appropriateness of the range of alternatives. Our approach is to ensure a complete analysis of reasonable and feasible strategies to provide opportunities for OHV recreationists.

The preliminary alternatives include: “No Action” which would keep the existing forest plan direction on all five forests. The alternatives outlined in the table below have been developed to reflect the outcomes of multi-agency coordination and input from people and organizations during scoping contacts. The five Forest Supervisors have selected a proposed action alternative to facilitate public participation in the process.

Preliminary Alternative Features—Cross Country Travel EIS for Five Arizona National Forests
Title | Cross country travel strategy | Exceptions to cross country travel allowed
Alternative 1. No Action Alternatives | Per Current Forest Plans, See table above | Variable according to forest and ranger district.
Alternative 2. Restrictive Mgt | Closed on all forests | Search and rescue Emergency Military.
Alternative 3 | Closed. Except areas dedicated to OHV in Forest Plans or other projects | Administrative access. Permittees and lessees granted access necessary for terms of permit. Campsite access within 150 ft of road. Fuelwood permits would not allow off road access by motorized vehicles. Disabled access by local permit. Game retrieval by vehicle not allowed off road.
Alternative 4 (Proposed Action) | Closed. Except dedicated to OHV in forest plans or other projects | Administrative access. Permittees and lessees granted access necessary for terms of permit. Campsite access within 300 ft of road. Fuel wood by local permit. Disabled access by local permit. Retrieval of big game other than turkey and javelina.
Alternative 5. Closed areas | Areas open where traffic and use would be sustainable | Administrative access, Search and rescue, Law enforcement, Emergency military action.

Significant information has been obtained from “Arizona Trails 2000, State Motorized and Non-motorized Trails Plan” in determining preliminary issues and possible alternatives. Cooperation with Arizona State agencies who have OHV management roles has been and remains excellent.

It is anticipated that environmental analysis and preparation of the draft and final environmental impact statements will take about eight months. The Draft Environmental Impact Statement can be expected in the spring of 2002 and the Final EIS in the late summer. A 45-day comment period will be provided for the public to make comments on the Draft Environmental Impact Statement.

The intention of the EIS is to programmatically preserve options for local transportation planning including OHV consideration while reducing existing and potential impacts to resources. Subsequent to adoption of an alternative from this EIS, Forest officers will issue Forest Orders implementing the selected alternative. Site specific planning at the ranger district or national forest level will examine the need for additional facilities to provide for motorized recreation. This process is described in 36 CFR part 212.

The Forest Service believes at this early stage, it is important to give reviewers notice of several court rulings related to public participation in the environmental review process. To be the most helpful, comments on the draft environmental impact statement should be as specific as possible and may address the adequacy of the statement or the merits of the alternatives discussed (see Council of Environmental Quality Regulations for implementing the procedural provisions of the National Environmental Policy Act at 40 CFR 1503.3).

In addition, Federal court decisions have established that reviewers of draft environmental impact statements must structure their participation in the environmental review of the proposal so that it is meaningful and alerts an agency to the reviewers' position and contentions. Vermont Yankee Nuclear Corp v. NRDC 435 US 519, 553 (1978). Environmental objections that could have been raised at the draft stage may be waived if not raised until after completion of the final environmental impact statement. City of Angoon v. Hodel 9th Circuit, 1986) and Wisconsin Heritages, Inc v. Harris, 490F. Supp.1334, 1338 (E.D. Wis. 1980). The reason for this is to ensure that substantive comments and objections are made available to the Forest Service at a time when they can meaningfully consider them in the final environmental impact statement.

Dated: January 31, 2002.
John C. Bedell,
Forest Supervisor.

[FR Doc. 02-3394 Filed 2-12-02; 8:45 am]

BILLING CODE 3410-11-M